DEPARTMENT OF ENERGY

Federal Energy Regulatory Commission

[Docket No. CP15-14-000]

Texas Gas Transmission, LLC; Notice of Application

Take notice that on November 12, 2014, Texas Gas Transmission, LLC (Texas Gas), filed an application pursuant to section 7(c) of the Natural Gas Act and Part 157 of the Commission's Regulations, for a certificate of public convenience and necessity to construct, operate, and maintain certain pipelines and appurtenant facilities extending from Henderson County, Kentucky to Mount Vernon, Posey County, Indiana (Southern Indiana Market Lateral Project). The filing may be viewed on the web at http://www.ferc.gov using the “eLibrary” link. Enter the docket number excluding the last three digits in the docket number field to access the document. For assistance, contact FERC at FERCOnlineSupport@gerc.gov or call toll-free, (886) 208-3676 or TYY, (202) 502-8659.

Any questions regarding this application should be directed to J. Kyle Stephens, Vice President, Regulatory Affairs & Rates, Texas Gas Transmission, LLC, 9 Greenway Plaza, Suite 2800, Houston, Texas 77046, telephone (713) 479-8059, fax (866) 459-7336, and email: Kyle.Stephens@bwpmlp.com.

The proposed Southern Indiana Market Lateral Project was designed to meet the specific market demand of Texas Gas' two industrial customers in southern Indiana: Midwest Fertilizer Company, LLC and SABIC Innovative Plastics Mt. Vernon, LLC. The project involves the construction of: Approximately 29.9 miles, 20-inch diameter pipeline; approximately 0.90 miles, 10-inch diameter pipeline; and appurtenant facilities. The proposed facilities will provide up to 166 MMcf per day of firm natural gas transportation capacity. Texas Gas executed the Precedent Agreements with the customers providing firm transportation services at negotiated rates for a primary term of 20 years. Texas Gas also requests authorization to establish an initial recourse rate for firm and interruptible services using the proposed project. The cost of the proposed facilities is approximately $79.7 million. Texas Gas proposed an in-service date of July 1, 2016.

Pursuant to Section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: 5:00 p.m. Eastern Time on December 11, 2014.

Dated: November 20, 2014.
Kimberly D. Bose,
Secretary.

[FR Doc. 2014-28023 Filed 11-25-14; 8:45 am]

BILLING CODE 6717-01-P